DEPARTMENT OF HOMELAND SECURITY

Federal Emergency Management Agency

[Docket ID: FEMA-2013-0049; OMB No. 1660-0102]

Agency Information Collection Activities: Submission for OMB Review; Comment Request; Federal Emergency Management Agency Housing Inspection Services Customer Satisfaction Survey

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 7, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Federal Emergency Management Agency Housing Inspection Services Customer Satisfaction Survey.

Type of information collection: Revision of a currently approved information collection.

Form Titles and Numbers: FEMA Form 007-0-1 and FEMA Form 007-0-1S.

Abstract: Federal Emergency Management Agency Housing Inspection Services Customer Satisfaction Survey, FEMA Forms 007-0-1 and 007-0-1S, are used to survey individuals who have contacted FEMA for disaster assistance. FEMA Inspection Services Managers and Task Monitors use the survey results to measure disaster inspector customer service and make improvements to disaster services that increase customer satisfaction and inspection program effectiveness. The information is shared with Regional staff specific to the Federal declaration for which the survey is conducted to further assist in enhancing customer service to those affected by disasters and other incidents that result in a declaration.

Affected Public: Individuals and Households.

Estimated Number of Respondents: 9,441.

Estimated Total Annual Burden Hours: 2,360.

Estimated Cost: There are no record keeping, capital, start-up or maintenance costs associated with this information collection.

Dated: February 21, 2014.
Charlene D. Myrthil,
Director, Records Management Division, Mission Support Bureau, Federal Emergency Management Agency, Department of Homeland Security.

[FR Doc. 2014-04914 Filed 3-5-14; 8:45 am]

BILLING CODE 9111-23-P